DEPARTMENT OF HEALTH AND HUMAN SERVICES

Centers for Disease Control and Prevention

[60Day-03-110]

Agency for Toxic Substances and Disease Registry; Proposed Data Collections Submitted for

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Collection of Publication Assessment Information—New—National Center for Injury Prevention and Control (NCIPC), Centers for Disease Control and Prevention (CDC).

This project will collect information from Internet users after they order or download a publication from the Web site of the Department of Health and Human Services/Centers for Disease Control and Prevention/National Center for Injury Prevention and Control. NCIPC produces a variety of publications about injury prevention for a range of audiences, from public health professionals to the general public. Publications include reports to Congress, fact books, brochures, research articles, tool kits, and books. Most of these publications are available to the general public, and the chief distribution method is through the NCIPC Web site, http://www.cdc.gov/ncipc. On the Web site, people can order print copies or view electronic copies of the publications.

It is critical for NCIPC to obtain feedback from users of their publications so it can better understand who uses them and how. This will help guide the development of future publications, revisions of current ones, as well as distribution of publications. As part of the effort to gain understanding about the audiences of NCIPC publications, we will collect information through a Web-based form. NCIPC Web site users will have the opportunity to fill out the form after ordering, downloading, or reading online publications through the Web site. The form contains questions about the demographic background of the users, how they found the Web site, how they plan to use the publication, their need for publications in other languages, the degree to which the publication offerings were useful to them, and space for their general comments. The results of the forms will be compiled and studied so NCIPC can better consider the needs of people who use the publications in future publication development, revisions, and distribution plans. There are no costs to respondents.

Respondents | No. of respondents | No. of responses per respondent | Average burden per response (in hrs.) | Total burden (in hrs.)
NCIPC Web site users who access or order publications | 360,000 | 1 | 5/60 | 30,000

Dated: August 13, 2003.
Nancy E. Cheal,
Acting Associate Director for Policy, Planning and Evaluation, Centers for Disease Control and Prevention.

[FR Doc. 03-21159 Filed 8-18-03; 8:45 am]

BILLING CODE 4163-18-P